DEPARTMENT OF THE TREASURY

Internal Revenue Service

26 CFR Part 1

[TD 9063]

RIN 1545-BB99

Distributions of Interests in a Loss Corporation From Qualified Trusts

Correction

In rule document 03-16229 beginning on page 38177 in the issue of Friday, June 27, 2003 make the following correction:

§1.382-10T [Corrected]

On page 38178, in the second column, in §1.382-10T, in amendatory instruction 3., in the first line, “1.382.10T” should read “1.382-10T”.

[FR Doc. C3-16229 Filed 7-10-03; 8:45 am]

BILLING CODE 1505-01-D